DEPARTMENT OF DEFENSE

Office of the Secretary

Meeting of the Advisory Council on Dependents' Education

AGENCY: Department of Defense Education Activity (DoDEA).

ACTION: Meeting postponement notice.

SUMMARY: Pursuant to the Federal Advisory Committee Act, Appendix 2 of title 5, United States Code, Public Law 92-463, a notice published on August 28, 2001, (66 FR 45285), announcing meeting of the Advisory Council on Dependents' Education (ACDE) scheduled to be held on October 4, 2001, from 8 a.m. to 5 p.m. has been postponed. A new meeting date will be announced. For further information contact Ms. Marsha Jacobson, at 703-696-4235, extension 1990.

Dated: October 4, 2001.
L.M. Bynum,
Alternate OSD Federal Register Liaison Officer, DoD.

[FR Doc. 01-25670 Filed 10-11-01; 8:45 am]

BILLING CODE 5001-08-M